DEPARTMENT OF TRANSPORTATION

Federal Aviation Administration

Agency Information Collection Activities: Requests for Comments; Clearance of Renewed Approval of Information Collection: Mitsubishi MU-2B Series Airplane Special Training, Experience, and Operating Procedures

AGENCY: Federal Aviation Administration (FAA), DOT.

ACTION: Notice and request for comments.

SUMMARY: In accordance with the Paperwork Reduction Act of 1995, FAA invites public comments about our intention to request the Office of Management and Budget (OMB) approval to renew an information collection. This collection of information request is for Mitsubishi MU-2B Series Airplane Special Training, Experience, and Operating Requirements Special Federal Aviation Regulation. The pilot training requires a logbook endorsement and documentation of a training-course completion record.

DATES: Written comments should be submitted by November 22, 2010.

FOR FURTHER INFORMATION CONTACT: Carla Scott on (202) 267-9895, or by e-mail at: Carla.Scott@faa.gov.

SUPPLEMENTARY INFORMATION: OMB Control Number: 2120-0725.

Title: Mitsubishi MU-2B Series Airplane Special Training, Experience, and Operating Procedures.

Form Numbers: There are no FAA forms associated with this collection.

Type of Review: Renewal of an information collection.

Background: In response to the increasing number of accidents and incidents involving the Mitsubishi MU-2B series airplane, the Federal Aviation Administration (FAA) began a safety evaluation of the MU-2B in July of 2005. As a result of this safety evaluation, the FAA published a Special Federal Aviation Regulation (SFAR) on February 6, 2008 (73 FR 7033) that established a standardized pilot training program. The collection of information is necessary to document participation, completion, and compliance with the pilot training program.

Respondents: Approximately 600 MU-2B pilots.

Frequency: Information is collected on occasion.

Estimated Average Burden per Response: 3 minutes.

Estimated Total Annual Burden: 100 hours.

ADDRESSES: Send comments to the FAA at the following address: Ms. Carla Scott, Room 712, Federal Aviation Administration, IT Enterprises Business Services Division, AES-200, 800 Independence Ave., SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 17, 2010.
Carla Scott,
FAA Information Collection Clearance Officer, IT Enterprises Business Services Division, AES-200.

[FR Doc. 2010-23734 Filed 9-22-10; 8:45 am]

BILLING CODE 4910-13-P